DEPARTMENT OF COMMERCE

International Trade Administration

[A-580-855, A-570-900]

Diamond Sawblades and Parts Thereof From the Republic of Korea and the People's Republic of China: Extension of Time Limits for the Final Results of the Antidumping Duty Administrative Reviews

AGENCY: Import Administration, International Trade Administration, Department of Commerce.

DATES: Effective Date: April 6, 2012.

FOR FURTHER INFORMATION CONTACT: Sergio Balbontin or Yang Jin Chun, AD/CVD Operations, Office 1, Import Administration, International Trade Administration, U.S. Department of Commerce, 14th Street and Constitution Avenue NW., Washington, DC 20230; telephone: (202) 482-6478 or (202) 482-5760, respectively.

SUPPLEMENTARY INFORMATION:

Background

On December 6, 2011, the Department of Commerce (the Department) published in the Federal Register the preliminary results of the administrative reviews of the antidumping duty orders on diamond sawblades and parts thereof (diamond sawblades) from the Republic of Korea (Korea) and the People's Republic of China (PRC). See Diamond Sawblades and Parts Thereof From the Republic of Korea: Preliminary Results of Antidumping Duty Administrative Review, 76 FR 76128 (December 6, 2011) (Preliminary Results—Korea) and Diamond Sawblades and Parts Thereof From the People's Republic of China: Preliminary Results of Antidumping Duty Administrative Review and Intent to Rescind Review in Part, 76 FR 76135 (December 6, 2011) (Preliminary Results—PRC). On March 13, 2012, we extended the deadline for the final results of the administrative review of the antidumping duty order on diamond sawblades from the PRC. See Diamond Sawblades and Parts Thereof From the People's Republic of China: Extension of Time Limit for Final Results of Antidumping Duty Administrative Review, 77 FR 14733 (March 13, 2012). The final results of the administrative reviews of the antidumping duty orders on diamond sawblades from Korea and the PRC are currently due no later than April 4, 2012, and May 14, 2012, respectively.

Extension of Time Limits for the Final Results of Reviews

Section 751(a)(3)(A) of the Tariff Act of 1930, as amended (the Act), requires the Department to issue final results within 120 days after the date on which the preliminary results are published. However, if it is not practicable to complete the review within this time period, section 751(a)(3)(A) of the Act allows the Department to extend the time period to a maximum of 180 days after the date on which the preliminary results are published.

We determine that it is not practicable to complete the final results of these reviews within the current time limits because we need additional time to consider new allegations in both the PRC and Korea proceedings. Section 751(a)(3)(A) of the Tariff Act of 1930 (“Act”) allows us to extend the deadline for the final results of these reviews to June 3, 2012, which is 180 days after the date of the publication of the Preliminary Results—Korea and the Preliminary Results—PRC. Because June 3, 2012, falls on a weekend, we shall issue the final results of these reviews on June 4, 2012. See Notice of Clarification: Application of “Next Business Day” Rule for Administrative Determination Deadlines Pursuant to the Tariff Act of 1930, As Amended, 70 FR 24533 (May 10, 2005).

This notice is published in accordance with section 751(a)(3)(A) of the Act and 19 CFR 351.213(h)(2).

Dated: March 30, 2012.
Gary Taverman,
Acting Deputy Assistant Secretary for Antidumping and Countervailing Duty Operations.

[FR Doc. 2012-8370 Filed 4-5-12; 8:45 am]

BILLING CODE 3510-DS-P